DEPARTMENT OF AGRICULTURE

Forest Service

Snohomish County Resource Advisory Committee (RAC)

AGENCY: Forest Service, USDA.

ACTION: Notice of meeting.

SUMMARY: The Snohomish County Resource Advisory Committee (RAC) will meet in Everett, Washington on October 25, 2012. The committee is meeting to review and prioritize 2012 and 2013 Snohomish County RAC Project Proposals for funding.

DATES: The meeting will be held on Thursday, October 25, 2012, from 9 a.m. to 5 p.m.

ADDRESSES: The meeting will be held in the Mt. Baker-Snoqualmie National Forest 4th floor Conference Room, located at the Wall Street Building, 2930 Wetmore Ave., Everett, Washington 98201.

FOR FURTHER INFORMATION CONTACT: Peter Forbes, District Ranger, Darrington Ranger District, phone (360) 436-2301, email pforbes@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public. More information will be posted on the Mt. Baker-Snoqualmie National Forest Web site at http://www.fs.fed.us/r6/mbs/projects/rac.shtml.

Comments may be sent via email to pforbes@fs.fed.us or via facsimile to (360) 436-1309. All comments, including names and addresses when provided, are placed in the record and are available for public inspection and copying. The public may inspect comments received at the Darrington Ranger District office at 1405 Emens Avenue, Darrington, Washington, during regular office hours (Monday through Friday 8 a.m.-4:30 p.m.).

Dated: October 12, 2012.
Jennifer Eberlien,
Forest Supervisor.

[FR Doc. 2012-25661 Filed 10-17-12; 8:45 am]

BILLING CODE 3410-11-P